FEDERAL COMMUNICATIONS COMMISSION

47 CFR Part 64

[CG Docket No. 10-51; FCC 11-118 and DA 11-1590]

Structure and Practices of the Video Relay Service Program

AGENCY: Federal Communications Commission.

ACTION: Final rule; petition for reconsideration.

SUMMARY: In this document, the Commission gives notice of two Petitions for Reconsideration (Petitions) filed in the Commission's rulemaking proceeding concerning Structure and Practices of the Video Relay Service Program, Second Report and Order and Order in CG Docket No. 10-51 (Second Report and Order), and sets an expedited schedule for filing oppositions and replies. In light of impending deadlines for initial and recertification Video Relay Service (VRS) applications, and to avoid waste, fraud, and abuse in the VRS program, the Commission finds that good cause exists in this instance to alter the comment periods specified in the Commission's rules.

DATES: Oppositions to the Petitions are due on or before October 7, 2011. Replies to oppositions are due on or before October 12, 2011.

ADDRESSES: Federal Communications Commission, 445 12th Street, SW., Washington, DC 20554.

FOR FURTHER INFORMATION CONTACT: Gregory Hlibok, (202) 559-5158 (VP), or e-mail, Gregory.Hlibok@fcc.gov.

SUPPLEMENTARY INFORMATION: This is a summary of document DA 11-1590, released September 22, 2011. The full text of document DA 11-1590 and copies of any subsequently filed documents in this matter will be available for public inspection and copying during normal business hours at the FCC Reference Information Center, Portals II, 445 12th Street, SW., Room CY-A257, Washington DC 20554. Document DA 11-1590 and copies of subsequently filed documents in this matter may also be purchased from the Commission's duplicating contractor, Best Copy and Printing, Inc. (BCPI), at Portals II, 445 12th Street, SW., Room CY-B402, Washington, DC 20554. Customers may contact BCPI at its Web site, http://www.bcpiweb.com, by calling (800) 378-3160 or (202) 863-2893, by facsimile at (202) 863-2898, or via e-mail at http://www.bcpiweb.com.

Oppositions and Replies. Pursuant to § 1.429 of the Commission's rules, interested parties may file oppositions and replies to an opposition on or before the dates indicated on the first page of this document. Such pleadings may be filed using: (1) The Commission's Electronic Comment Filing System (ECFS); or (2) by filing paper copies. All filings should reference the docket number of this proceeding, CG Docket No. 10-51. The oppositions and replies filed in response to document DA 11-1590 will be available via the ECFS at: http://fjallfoss.fcc.gov/ecfs2/; you may search by docket number (CG Docket No. 10-51).

• Oppositions and replies may be filed electronically using the Internet by accessing the ECFS: http://fjallfoss.fcc.gov/ecfs2/. Filers should follow the instructions provided on the Web site for submitting comments. In completing the transmittal screen, ECFS filers should include their full name, U.S. Postal Service mailing address, and CG Docket No. 10-51.

• Parties who choose to file by paper must file an original and one copy of each filing. Filings can be sent by hand or messenger delivery, by commercial overnight courier, or by first class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes or boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

Ex Parte Proceeding

This proceeding shall be treated as a “permit-but-disclose” proceeding in accordance with the Commission's ex parte rules. See 47 CFR 1.1200 et seq. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

To request materials in accessible formats for people with disabilities (Braille, large print, electronic files, audio format), send an e-mail to fcc504@fcc.gov or call the Consumer and Governmental Affairs Bureau at (202) 418-0530 (voice), (202) 418-0432 (tty).

Congressional Review Act

The Commission will not send a copy of document DA 11-1590 pursuant to the Congressional Review Act, 5 U.S.C. 801(a)(1)(A), because it does not have an impact on any rules of particular applicability.

Synopsis

1. Notice is hereby given that the parties listed have petitioned the Commission for reconsideration and clarification of the Second Report and Order in CG Docket No. 10-51, FCC 11-118, published at 76 FR 47469, August 5, 2011. In the Second Report and Order, the Commission required that, as part of their initial iTRS certification applications and in annual updates, VRS providers describe the technology and equipment used to support their call center functions (including but not limited to automatic call distribution, routing, call setup, mapping, call features, billing for compensation from the Interstate TRS Fund (TRS Fund), and registration), and for each core call center function, state whether it is owned or leased, and from whom if leased or licensed, and provide proofs of purchase, license agreements, or leases; and (2) a list of all sponsorship or marketing arrangements and associated agreements relating to iTRS.

2. The Second Report and Order also adopted a requirement that, in order to receive certification from the Commission, which is necessary to be eligible to receive compensation from the TRS Fund, all iTRS providers must operate their own calling facilities and employ their own communication assistants. In addition, the Second Report and Order adopted a requirement that any VRS provider that is leasing an automatic call distribution (ACD) platform from an eligible provider or from a third-party non-provider must have a written lease for such ACD platform and must include a copy of such written lease with its application for certification, and that a VRS provider leasing an ACD platform from an eligible provider must locate the ACD platform on its own premises and must use its own employees to manage the ACD platform.

3. Providers currently eligible for compensation from the TRS Fund via a means other than Commission certification must apply for certification within 30 days after the rules adopted in the Second Report and Order become effective, and providers with Commission certifications expiring November 4, 2011 must apply for recertification after the rules become effective but at least 30 days prior to their expiration provided that the rules are effective by that date, or risk having to shut down their operations and being denied compensation from the TRS Fund. In light of these impending deadlines for initial and recertification applications, and to avoid waste, fraud, and abuse in the VRS program, the Commission finds that good cause exists in this instance to alter the comment periods specified in § 1.429 of the Commission's rules. See 47 CFR 1.3 (providing for suspension, amendment, or waiver of Commission rules, in whole or in part, for good cause shown, and on the Commission's own motion).

Listed below are the parties filing petitions for reconsideration and clarification of the Second Report and Order and Order in CG Docket No. 10-51:

Sorenson Communications, Inc. (September 6, 2011).

AT&T Services, Inc. (September 6, 2011).

Federal Communications Commission.
Joel Gurin,
Chief, Consumer and Governmental Affairs Bureau.

[FR Doc. 2011-24860 Filed 9-26-11; 8:45 am]

BILLING CODE P